FARM CREDIT ADMINISTRATION

Privacy Act of 1974; System of Records

AGENCY: Farm Credit Administration.

ACTION: Notice of a Modified System of Records.

SUMMARY: Pursuant to the provisions of the Privacy Act of 1974, notice is hereby given that the Farm Credit Administration (FCA or Agency) is amending an existing system of records, FCA-8—FCA internet Access System—FCA. The FCA internet Access System—FCA system is used to monitor FCA and Farm Credit System Insurance Corporation (FCSIC) employees' and contractors' access to the internet. The Agency is updating the notice to broaden the overall purpose of the system, including maintaining account and usage information required for approving, monitoring, facilitating, and disabling access to FCA information technology and is updating the categories of records and individuals maintained in the system to reflect that modified purpose.

Additionally, the FCA is making administrative updates as well as non-substantive changes to conform to the system of records notice (SORN) template requirements prescribed in the Office of Management and Budget (OMB) Circular No. A-108.

DATES: You may send written comments on or before September 21, 2020. The FCA filed an amended System Report with Congress and the Office of Management and Budget on May 29, 2020. This notice will become effective without further publication on September 29, 2020 unless modified by a subsequent notice to incorporate comments received from the public.

ADDRESSES: We offer a variety of methods for you to submit your comments. For accuracy and efficiency reasons, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA website: http://www.fca.gov. Click inside the “I want to . . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov. Once you are in the website, click inside the “I want to . . . ” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4020, TTY (703) 883-4019.

SUPPLEMENTARY INFORMATION: This publication satisfies the requirement of the Privacy Act of 1974 that agencies publish a system of records notice in the Federal Register when there is a revision, change, or addition to the system of records. The substantive changes and modifications to the currently published version of FCA-8—FCA internet Access System—FCA include:

1. Updating the name of the system to reflect the expanded purpose—FCA-8—FCA Information Technology User Access and Usage Records—FCA.

2. Identifying the records in the system as unclassified.

3. Updating the system location to reflect the system's current location.

4. Updating the system managers to reflect the system's current owner.

5. Expanding the purpose of the system to include maintaining account and usage information required for approving, monitoring, facilitating, and disabling access to FCA information technology.

6. Expanding and clarifying the categories of records to ensure they are consistent with the purposes for which the records are collected.

7. Expanding and clarifying the categories of individuals to ensure they are consistent with the purposes for which the records are collected.

8. Expanding and clarifying how records may be stored and retrieved.

9. Revising the retention and disposal section to reflect the relevant records schedule.

10. Revising the safeguards section to reflect updated cybersecurity guidance and practices.

Additionally, non-substantive changes have been made to the notice to align with the latest guidance from OMB.

The amended system of records is: FCA-8—FCA Information Technology User Access and Usage Records—FCA. As required by 5 U.S.C. 552a(r) of the Privacy Act, as amended, the FCA sent notice of this proposed system of records to the Office of Management and Budget, the Committee on Oversight and Government Reform of the House of Representatives, and the Committee on Homeland Security and Governmental Affairs of the Senate. The notice is published in its entirety below.

SYSTEM NAME AND NUMBER:

FCA-8—FCA Information Technology User Access and Usage Records—FCA.

SECURITY CLASSIFICATION:

Unclassified.

SYSTEM LOCATION:

Office of Information Technology, Farm Credit Administration, 1501 Farm Credit Drive, McLean, VA 22102-5090.

SYSTEM MANAGER:

Chief Information Officer and Director, Office of Information Technology, Farm Credit Administration, 1501 Farm Credit Drive, McLean, VA 22102-5090.

AUTHORITY FOR MAINTENANCE OF THE SYSTEM:

12 U.S.C. 2243, 2252, and 44 U.S.C. 3101, 3501, 3534.

PURPOSES OF THE SYSTEM:

Information in this system of records is used by FCA to maintain account and usage information required for approving, monitoring, facilitating, and disabling access to FCA information technology.

CATEGORIES OF INDIVIDUALS COVERED BY THE SYSTEM:

Current and former FCA and FCSIC employees, contractors, and other authorized users of or persons requesting access to or use of FCA information technology.

CATEGORIES OF RECORDS IN THE SYSTEM:

This system contains information including, but not limited to: (a) Contact information including name, title or positions held, business and affiliations, email and telephone numbers; (b) system, network, or similar logs, including access and usage records, including registration numbers or identification numbers associated with FCA information technology; (c) websites visited, dates, and times; (d) usernames, passwords, authentication credentials, and similar information associated with access to and use of FCA information technology; (e)information associated with specific user information technology requests (incident tickets), including issue and resolution notes and contact information; and (f) internet protocol (IP) addresses, Media Access Control (MAC) addresses, usage logs, and similar information associated with external users of FCA information technology.

RECORD SOURCE CATEGORIES:

Current and former FCA and FCSIC employees, contractors, and other authorized users of or persons requesting access to or use of FCA information technology.

ROUTINE USES OF RECORDS MAINTAINED IN THE SYSTEM, INCLUDING CATEGORIES OF USERS AND PURPOSES OF SUCH USES:

See the “General Statement of Routine Uses” (64 FR 8175). The information collected in the system will be used in a manner compatible with the purposes for which the information has been collected.

Disclosure to consumer reporting agencies: None.

POLICIES AND PRACTICES FOR STORAGE OF RECORDS:

Records are maintained in hard copy and electronic form, including file folders on a computerized database.

POLICIES AND PRACTICES FOR RETRIEVAL OF RECORDS:

Records are retrieved by name of individual, user name, user ID, IP or MAC address, machine ID or name, or some combination thereof.

POLICIES AND PROCEDURES FOR RETENTION AND DISPOSAL OF RECORDS:

Records are retained in accordance with the FCA Comprehensive Records Schedule and the National Archives and Records Administration's General Records Schedule requirements.

ADMINISTRATIVE, TECHNICAL, AND PHYSICAL SAFEGUARDS:

FCA implements multiple layers of security to ensure access to records is limited to those with a need-to-know in support of their official duties. Paper records are physically safeguarded in a secured environment using locked file rooms, file cabinets, or locked offices and other physical safeguards. Computerized records are safeguarded through use of user roles, passwords, firewalls, encryption, and other information technology security measures.

RECORD ACCESS PROCEDURES:

To obtain a record, contact: Privacy Act Officer, Farm Credit Administration, 1501 Farm Credit Drive, McLean, VA 22102-5090, as provided in 12 CFR part 603.

CONTESTING RECORD PROCEDURES:

Direct requests for amendments to a record to: Privacy Act Officer, Farm Credit Administration, 1501 Farm Credit Drive, McLean, VA 22102-5090, as provided in 12 CFR part 603.

NOTIFICATION PROCEDURE:

Address inquiries about this system of records to: Privacy Act Officer, Farm Credit Administration, McLean, VA 22102-5090.

EXEMPTIONS PROMULGATED FOR THE SYSTEM:

None.

HISTORY:

Federal Register Vol. 64, No. 100/Tuesday, May 25, 1999 page 21875; Vol. 70, No. 183/Thursday, September 22, 2005, page 55621.

Dated: August 13, 2020.
Dale Aultman,
Secretary, Farm Credit Administration Board.

[FR Doc. 2020-18223 Filed 8-19-20; 8:45 am]

BILLING CODE 6705-01-P